NATIONAL SCIENCE FOUNDATION

National Science Board—Vannevar Bush Award Committee; Sunshine Act Meetings

The National Science Board's Vannevar Bush Award Committee, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

DATE AND TIME: Friday, January 12, 2007, at 2:30 p.m.

SUBJECT MATTER: Discussion of recommendations for recipient(s) of the 2007 Vannevar Bush Award

STATUS: Closed.

This meeting will be held by teleconference originating at the National Science Board Office, National Science Foundation, 4201 Wilson Blvd., Arlington, VA 22230.

Please refer to the National Science Board Web site (http://www.nsf.gov/nsb) for information or schedule updates, or contact: Ann Noonan, National Science Board Office, 4201 Wilson Blvd., Arlington, VA 22230. Telephone: (703) 292-7000.

Michael P. Crosby,
Executive Officer and NSB Office Director.

[FR Doc. E6-22015 Filed 12-21-06; 8:45 am]

BILLING CODE 7555-01-P